FEDERAL COMMUNICATIONS COMMISSION

47 CFR Part 64

[DA 11-1649]

Common Carriers; Editorial Amendments

AGENCY: Federal Communications Commission.

ACTION: Final rule.

SUMMARY: In this document, the Commission via the Office of Managing Director makes two nonsubstantive, editorial amendments to Part 64 of the Commission's rules. The Managing Director makes these amendments to delete certain provisions and notes that are without current legal effect and thus obsolete. The Chief of the Consumer and Governmental Affairs Bureau has approved these editorial amendments.

DATES: Effective October 13, 2011.

FOR FURTHER INFORMATION CONTACT: Deborah Broderson, Office of the Bureau Chief, Consumer and Governmental Affairs Bureau at (202) 418-0652, or e-mail: Deborah.Broderson@fcc.gov.

SUPPLEMENTARY INFORMATION: This is a summary of the Commission's Amendment of Part 64 of the Commission's Rules Regarding Telecommunication Relay Services and Related Customer Premises Equipment for Persons with Disabilities; Truth-in-Billing Requirements for Common Carriers, Order (Order), document DA 11-1649, adopted September 30, 2011, and released September 30, 2011. The full text of document DA 11-1649 and copies of any subsequently filed documents in this matter will be available for public inspection and copying during regular business hours at the FCC Reference Information Center, Portals II, 445 12th Street, SW., Room CY-A257, Washington, DC 20554. Document DA 11-1649 and copies of subsequently filed documents in this matter may also be purchased from the Commission's duplicating contractor, Best Copying and Printing, Inc. (BCPI), at Portals II, 445 12th Street, SW., Room CY-B402, Washington, DC 20554. Customers may contact BCPI at its Web site, http://www.bcpiweb.com, or by calling 202-488-5300. Document DA 11-1649 can also be downloaded in Word or Portable Document Format (PDF) at: http://www.fcc.gov/cgb/dro/trs.html#orders.

To request materials in accessible formats for people with disabilities (Braille, large print, electronic files, audio format), send an e-mail to fcc504@fcc.gov or call the Consumer and Governmental Affairs Bureau at (202) 418-0530 (voice), (202) 418-0432 (TTY).

Final Paperwork Reduction Act of 1995 Analysis

Document DA 11-1649 does not contain new or modified information collection requirements subject to the Paperwork Reduction Act of 1995, Public Law 104-13. In addition, therefore, it does not contain any new or modified information collection burden for small business concerns with fewer than 25 employees, pursuant to the Small Business Paperwork Relief Act of 2002, Public Law 107-198, see 44 U.S.C. 3506(c)(4).

Congressional Review Act

The Commission will send a copy of document DA 11-1649 in a report to be sent to Congress and the Government Accountability Office pursuant to the Congressional Review Act. See 5 U.S.C. 801(a)(1)(A).

Synopsis

1. Document DA 11-1649 finds that a provision of Part 64, Subpart F of the Commission's rules regarding the Telecommunications Relay Services and Related Customer Premises Equipment for Persons with Disabilities no longer has legal effect. Section 64.604(c)(5)(iii)(J) of the Commission's rules provides that the Commission shall review the Interstate Cost Recovery Plan (the “TRS Fund”) and the TRS Fund administrator's performance after two years. The administration of the TRS Fund and the rule mandating a review after an initial two year period became effective July 26, 1993. See Telecommunications Relay Services, 58 FR 39671, July 26, 1993 (amending 47 CFR 64.604). Since § 64.604(c)(5)(iii)(J) of the Commission's rules became effective in 1993, the Commission has reviewed the TRS Fund on an annual basis and has modified the plan on several occasions. See, e.g., Telecommunications Relay Services and Speech-to-Speech Services for Individuals with Hearing and Speech Disabilities; Structure and Practices of the Video Relay Service Program, CG Docket Nos. 03-123 and 10-51, Order, 76 FR 44326, July 25, 2011 (adopting new compensation rates for various forms of TRS to be paid from the TRS Fund for the 2011-12 Fund year and the contribution factor used to determine the amount common carriers must contribute to the Fund). The Commission had also conducted periodic reviews of the administrator's performance. See Appointment of Telecommunications Relay Services Fund Administrator and Composition of the Interstate TRS Advisory Council, CC Docket No. 90-571, Memorandum Opinion and Order, 14 FCC Rcd 10553, 10554, paragraphs 10-11 (1999); Appointment of the Telecommunications Relay Services Fund Administrator and Composition of the TRS Advisory Committee, CC Docket No. 90-571, Memorandum Opinion and Order, 10 FCC Rcd 7223, 7224, paragraphs 8-9 (1995). As the Commission reviewed the performance of the administrator and the Fund after two years of its promulgation, § 64.604(c)(5)(iii)(J) of the Commission's rules is without current legal effect and thus may be deleted as obsolete.

2. Document DA 11-1649 also finds that a note in Part 64, Subpart Y of the Commission's rules, which establishes Truth-In-Billing Requirements for Common Carriers, no longer has legal effect. The note following the Commission's Truth-In-Billing Requirements, codified at 47 CFR 64.2401 of its rules, indicates that certain provisions of the rule are not effective and have been stayed until amendments to § 64.2401(a), (d), and (e) of the Commission's rules become effective, pending approval by the Office of Management and Budget and the Commission's publication of a document in the Federal Register announcing this approval and the effective date of these amended subsections. The amendments to the noted sections were published in the Federal Register on July 13, 2000, see Truth-In-Billing and Billing Format, 65 FR 43251, July 13, 2000 (amending 47 CFR 64.2401(a), (d), and (e)), and became effective upon approval by the Office of Management and Budget on August 28, 2000. See Truth-In-Billing and Billing Format, 65 FR 52048, August 28, 2000 (amending 47 CFR 64.2401(a), (d), and (e)).

3. Accordingly, the stay has been lifted and all provisions of the rule are currently effective. The note indicating that some provisions have been stayed is no longer accurate. For these reasons, the note following § 64.2401 of the Commission's rules is without current legal effect and thus may also be deleted as obsolete.

4. Accordingly, the Commission amends these rules by deleting these provisions that no longer have any legal effect. The rule amendments adopted in document DA 11-1649 and set forth herein are nonsubstantive, editorial revisions of the rules under 47 CFR 0.231(b) of the Commission's rules. The Commission therefore finds good cause to conclude that notice and comment procedures are unnecessary and would not serve any useful purpose. See 5 U.S.C. 553(b)(3)(B). Because the rules being deleted are obsolete and without current legal effect, the Commission also finds good cause to make these nonsubstantive, editorial revisions of the rules effective October 13, 2011. See 5 U.S.C. 553(d)(3).

Regulatory Flexibility Act

Because Document DA 11-1649 was adopted without notice and comment, see 5 U.S.C. 553(b)(3)(B), the Regulatory Flexibility Act, 5 U.S.C. 601 et seq., does not apply.

Ordering Clauses

It is ordered that, effective October 13, 2011, Part 64 of the Commission's rules is amended, as set forth herein, pursuant to the authority contained in sections 4(i) and 303(r) of the Communications Act of 1934, as amended, 47 U.S.C. 154(i) and 303(r), and § 0.231(b) of the Commission's regulations, 47 CFR 0.231(b).

The Commission's Consumer and Governmental Affairs Bureau, Reference Information Center, will not send a copy of document DA 11-1649 or Regulatory Flexibility Act documents to the Chief Counsel for Advocacy of the Small Business Administration because the Regulatory Flexibility Act does not apply.

List of Subjects in 47 CFR Part 64

Individuals with disabilities, Telecommunications, Telephone.

Federal Communications Commission.
Joel Gurin,
Chief, Consumer and Governmental Affairs Bureau.

Rule Changes

For the reasons discussed in the preamble, the Federal Communications Commission amends 47 CFR part 64 as follows:

PART 64—MISCELLANEOUS RULES RELATING TO COMMON CARRIERS

1. The authority citation for part 64 continues to read as follows:

Authority: 47 U.S.C. 154, 254(k), 227; secs. 403(b)(2)(B), (c), Pub. L. 104-104, 110 Stat. 56. Interpret or apply 47 U.S.C. 201, 218, 225, 226, 228, 254(k), and 620, unless otherwise noted.

§ 64.604 [Amended]

2. In § 64.604, remove and reserve paragraph (c)(5)(iii)(J).

§ 64.2401 [Amended]

3. In § 64.2401, remove the “Note to § 64.2401”.

[FR Doc. 2011-26515 Filed 10-12-11; 8:45 am]

BILLING CODE 6712-01-P